DEPARTMENT OF ENERGY

Federal Energy Regulatory Commission

[Docket Nos. RM05-4-000 and RM05-4-001]

Interconnection for Wind Energy; Notice Extending Compliance Date

October 28, 2005.

On June 2, 2005, the Commission issued its Final Rule in these proceedings. Interconnection for Wind Energy, Order No. 661, 70 FR 34993 (June 16, 2005), FERC Stats. & Regs. ¶ 31,186 (2005) (Final Rule). By order dated August 5, 2005, the Commission extended to November 14, 2005 the date by which public utilities that own, control, or operate transmission facilities in interstate commerce are to adopt the Final Rule Appendix G as amendments to the Large Generator Interconnection Procedures and Large Generator Interconnection Agreements in their Open Access Transmission Tariffs.

By this notice, the Commission hereby extends to December 30, 2005 the date by which public utilities that own, control, or operate transmission facilities in interstate commerce are to adopt the Final Rule Appendix G as amendments to the Large Generator Interconnection Procedures and Large Generator Interconnection Agreements in their Open Access Transmission Tariffs.

Magalie R. Salas,
Secretary.

[FR Doc. E5-6112 Filed 11-3-05; 8:45 am]

BILLING CODE 6717-01-P